DEPARTMENT OF COMMERCE

International Trade Administration

(A-489-807)

Certain Steel Concrete Reinforcing Bars from Turkey; Notice of Extension of Time Limits for Final Results of Antidumping Duty Administrative Review

AGENCY: Import Administration, International Trade Administration, Department of Commerce.

EFFECTIVE DATE: June 23, 2008.

FOR FURTHER INFORMATION CONTACT: Irina Itkin, AD/CVD Operations, Office 2, Import Administration, International Trade Administration, U.S. Department of Commerce, 14th Street and Constitution Avenue, NW, Washington, DC 20230; telephone (202) 482-0656.

Background

The Department of Commerce (the Department) published an antidumping duty order on certain steel concrete reinforcing bars (rebar) from Turkey on April 17, 1997. See Antidumping Duty Order: Certain Steel Concrete Reinforcing Bars From Turkey, 62 FR 18748 (April 17, 1997). On May 30, 2007, the Department published a notice of initiation of an administrative review of the order on rebar from Turkey for the period April 1, 2006, through March 31, 2007. See Initiation of Antidumping and Countervailing Duty Administrative Reviews and Request for Revocation in Part, 72 FR 29968 (May 30, 2007). The review covers four producers/exporters of the subject merchandise to the United States: Ekinciler Demir ve Celik Sanayi A.S./Ekinciler Dis Ticaret A.S., Habas Sinai ve Tibbi Gazlar Istihsal Endustrisi A.S., Izmir Demir Celik Sanayi A.S, and Nursan Celik Sanayi ve Haddecilik, A.S./Nursan Dis Ticaret A.S.

On May 5, 2008, the Department published the preliminary results of the administrative review of the antidumping duty order on rebar from Turkey. See Certain Steel Concrete Reinforcing Bars from Turkey; Preliminary Results of Antidumping Duty Administrative Review and Notice of Intent to Revoke in Part, 73 FR 24535 (May 5, 2008). The final results are currently due no later than September 2, 2008.

Extension of the Time Limit for Final Results of Administrative Review

Section 751(a)(3)(A) of the Tariff Act of 1930, as amended, (the Act) requires the Department to issue the final results in an administrative review within 120 days of the publication date of the preliminary results. However, if it is not practicable to complete the review within this time period, section 751(a)(3)(A) of the Act allows the Department to extend the time limit for the final results to a maximum of 180 days after the date on which the preliminary results are published. The Department has determined that completion of the final results of this review within the original time period is not practicable because the Department requires additional time to complete analysis of several complex issues, including certain cost issues for one respondent and a revocation request for another respondent. Therefore, the Department is fully extending the time limit for completion of the final results of the administrative review. The final results are now due no later than November 3, 2008, the next business day after 180 days from publication of the preliminary results.

This notice is issued and published in accordance with sections 751(a)(3)(A) and 777(i)(1) of the Act.

Dated: June 17, 2008.
Stephen J. Claeys,
Deputy Assistant Secretary for Import Administration.

[FR Doc. E8-14124 Filed 6-20-08; 8:45 am]

BILLING CODE 3510-DS-S